DEPARTMENT OF HEALTH AND HUMAN SERVICES

National Institutes of Health

National Center for Complementary and Alternative Medicine Announcement of Workshop on Control/Comparison Groups for Trials of Non-Pharmacologic Interventions

ACTION: Notice.

SUMMARY: The National Center for Complementary and Alternative Medicine (NCCAM) invites the public to participate at a Workshop on the choice of control and comparison groups for trials of non-pharmacological interventions (NPI). The purpose of this workshop is to review the strengths and weaknesses of the various control/comparison groups used in studies of NPI and the most appropriate use of these control/comparison groups. This workshop will be divided into six sessions that will feature presentations and discussions focusing on the selection of a particular control/comparison group(s) for a given research question. The first session will provide case studies from the NPI literature, while the remainder will address the choice of control/comparison groups when researching the following questions: What is/are the major active component(s) of the NPI? What is/are the major effective mechanism(s) of the NPI? Does this NPI work at all? Is this NPI as good as (or better than) some other intervention? Does this NPI improve standard-of-care?

The Workshop will take place on April 26-27, 2010 in Rockville, Maryland. Seating is limited.

Background: The National Center for Complementary and Alternative Medicine (NCCAM) was established in 1998 with the mission of exploring complementary and alternative healing practices in the context of rigorous science, training CAM researchers, and disseminating authoritative information to the public and professionals.

To date, NCCAM's efforts to rigorously study CAM, to train CAM researchers, and to communicate with the public and professionals, have been guided by NCCAM's previous strategic plans, located on the NCCAM Web site at http://nccam.nih.gov/about/plans.

The Workshop will take place on April 26-27, 2010 in Rockville, Maryland. Seating is limited.

FOR FURTHER INFORMATION CONTACT: To request more information, visit the NCCAM Web site at http://nccam.nih.gov, call Edward Culhane at 301-594-3391, or e-mail culhanee@mail.nih.gov.

Dated: March 9, 2010.
Richard Nahin,
Senior Advisor for Scientific Coordination and Outreach, National Center for Complementary and Alternative Medicine, National Institutes of Health.

[FR Doc. 2010-5767 Filed 3-16-10; 8:45 am]

BILLING CODE 4140-01-P